DEPARTMENT OF ENERGY

Federal Energy Regulatory Commission

[Docket No. PR09-29-000]

Cypress Gas Pipeline, LLC; Notice of Technical Conference

August 20, 2009.

Take notice that the Commission will convene a technical conference in the above-captioned proceeding on Thursday, August 27, 2009, at 10 a.m. (EDT), in a room to be designated at the offices of the Federal Energy Regulatory Commission (Commission), 888 First Street, NE., Washington, DC. 20426.

Cypress Gas Pipeline, LLC (Cypress) has requested a technical conference to discuss additional data it is submitting which will revise its Petition for Rate Approval filed July 13, 2009. At the conference, Commission Staff and interested persons will have the opportunity to discuss the additional data being submitted by Cypress. Cypress should be prepared to address all of the above-mentioned subject matter, and to provide, as necessary, additional support for its filing.

FERC conferences are accessible under section 508 of the Rehabilitation Act of 1973. For accessibility accommodations please send an e-mail to accessibility@ferc.gov or call toll free (866) 208-3372 (voice) or 202-502-8659 (TTY), or send a fax to 202-208-2106 with the required accommodations.

All interested parties and staff are permitted to attend. For further information please contact Greg Kusel at (202) 502-6720 or e-mail at greg.kusel@ferc.gov.

Kimberly D. Bose,
Secretary.

[FR Doc. E9-20650 Filed 8-26-09; 8:45 am]

BILLING CODE 6717-01-P